DEPARTMENT OF DEFENSE

Office of the Secretary

Charter for the Secretary of the Navy Advisory Panel

AGENCY: Department of Defense.

ACTION: Federal advisory committee charter.

SUMMARY: Under the provisions of the Federal Advisory Committee Act of 1972, (5 U.S.C. Appendix, as amended), the Sunshine in the Government Act of 1976 (5 U.S.C. 552b, as amended), and 41 CFR 102-3.65, the Department of Defense gives notice that it intends to renew the charter for the Secretary of the Navy Advisory Panel.

FOR FURTHER INFORMATION CONTACT: Jim Freeman, DoD Committee Management Office, 703-601-6128.

SUPPLEMENTARY INFORMATION: The Secretary of the Navy Advisory Panel, pursuant to 41 CFR 102-3.50(d), is a discretionary Federal advisory committee established to provide the Secretary of Defense through the Secretary of the Navy, independent advice and recommendations on critical matters concerning the Department of the Navy.

The Panel's focus will include acquisition reform, the shipbuilding defense industrial base, intelligence organization, and related maritime issues.

Pursuant to DoD policy, the Secretary of the Navy or designee is authorized to act upon the Panel's advice and recommendations.

The Panel shall be composed of no more than 20 members, who are eminent authorities in the fields of national security policy, intelligence, science, engineering, or business and industry.

Panel members appointed by the Secretary of Defense, who are not full-time or permanent part-time Federal officers or employees, shall be appointed as experts and consultants under the authority of 5 U.S.C. 3109 and serve as Special Government Employees. Panel members shall be appointed on an annual basis by the Secretary of Defense and with the exception of travel and per diem for official travel, Panel members shall serve without compensation.

The Secretary of the Navy shall select the Panel's chairperson from the total membership.

The Panel shall meet at the call of the Designated Federal Officer, in consultation with the Chairperson and the Secretary of the Navy and the Chairperson, and the estimated number of Panel meetings is 3 per year. The Designated Federal Officer shall be a full-time or permanent part-time DoD employee, and shall be appointed in accordance with established DoD policies and procedures. In addition, the Designated Federal Officer and/or Alternate Designated Federal Officer shall attend all Panel and subcommittee meetings.

With DoD approval, the Panel shall be authorized to establish subcommittees, as necessary and consistent with its mission. These subcommittees or working groups shall operate under the provisions of the Federal Advisory Committee Act of 1972 (5 U.S.C., Appendix, as amended), the Sunshine in the Government Act of 1976 (5 U.S.C. 552b, as amended), and other appropriate Federal regulations.

Such subcommittees or workgroups shall not work independently of the chartered Panel, and shall report all their recommendations and advice to the Secretary of the Navy Advisory Panel for full deliberation and discussion. Subcommittees or workgroups have no authority to make decisions on behalf of the chartered Panel nor can they report directly to the Department of Defense or any Federal officers or employees who are not Panel members.

Pursuant to 41 CFR 102-3.105(j) and 102-3.140, the public or interested organizations may submit written statements to the Secretary of the Navy Advisory Panel membership about the committee's mission and functions. Written statements may be submitted at any time or in response to the stated agenda of planned meeting of the Secretary of the Navy Advisory Panel.

All written statements shall be submitted to the Designated Federal Officer for the Secretary of the Navy Advisory Panel, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Secretary of the Navy Advisory Panel. The Designated Federal Officer, at that time, may provide additional guidance on the submission of written statements that are in response to the stated agenda for the planned meeting in question.

Dated: October 15, 2009.
Patricia L. Toppings,
OSD Federal Register Liaison Officer, Department of Defense.

[FR Doc. E9-25707 Filed 10-23-09; 8:45 am]

BILLING CODE 5001-06-P